DEPARTMENT OF HOUSING AND URBAN DEVELOPMENT

[Docket No. FR-5601-N-05]

Federal Property Suitable as Facilities to Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 708-1234; TTY number for the hearing- and speech-impaired (202) 708-2565 (these telephone numbers are not toll-free), or call the toll-free Title V information line at (800) 927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-(800) 927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COE: Mr. Scott Whiteford, Army Corps of Engineers, Real Estate, CEMP-CR, 441 G Street NW., Washington, DC 20314; (202) 761-5542; ENERGY: Mr. Mark Price, Department of Energy, Office of Engineering & Construction Management, MA-50, 1000 Independence Ave. SW., Washington, DC 20585: (202) 586-5422; GSA: Mr. Gordon Creed, Acting Deputy Assistant Commissioner, General Services Administration, Office of Property Disposal, 18th & F Streets NW., Washington, DC 20405; (202) 501-0084; INTERIOR: Mr. Michael Wright, Acquisition & Property Management, Department of the Interior, 1801 Pennsylvania Ave. NW., 4th Floor, Washington, DC 20006: (202) 254-5522; NAVY: Mr. Albert Johnson, Department of the Navy, Asset Management Division, Naval Facilities Engineering Command, Washington Navy Yard, 1330 Patterson Ave. SW., Suite 1000, Washington, DC 20374; (202) 685-9305 (These are not toll-free numbers).

Dated: January 26, 2012.
Mark R. Johnston,
Deputy Assistant Secretary for Special Needs.

TITLE V, FEDERAL SURPLUS PROPERTY PROGRAM FEDERAL REGISTER REPORT FOR 02/03/2012

Suitable/Available Properties

Building

Iowa

Fee Booth

Bridge View Park

Melrose IA 52569

Landholding Agency: COE

Property Number: 31201210001

Status: Unutilized

Comments: Off-site removal only; 180 sq. ft.; current use: Fee booth; need repairs—walls deteriorating due to moisture

Fee Booth

Buck Creek Park

Moravia IA 52571

Landholding Agency: COE

Property Number: 31201210002

Status: Unutilized

Comments: Off-site removal only; 180 sq. ft.; current use: Fee booth; need repairs—walls deteriorating due to moisture

Fee Booth

Prairie Ridge Park

Moravia IA 52571

Landholding Agency: COE

Property Number: 31201210003

Status: Underutilized

Comments: Off-site removal only; 180 sq. ft.; current use: Fee booth; need repairs—walls contaminated with mold

Kansas

Shower/Latrine

Stockdale Park

Manhattan KS 66502

Landholding Agency: COE

Property Number: 31201210004

Status: Underutilized

Comments: Off-site removal only; 576 sq. ft.; current use: Shower/toilet; need repairs—bldg. deteriorating

2 Single Privies

Spillway State Park

Manhattan KS 66502

Landholding Agency: COE

Property Number: 31201210005

Status: Underutilized

Comments: Off-site removal only; 72 sq. ft.; current use: Toilet; need major repairs—bldgs. are deteriorating

Comfort Station

Tuttle Creek Cove

Manhattan KS 66502

Landholding Agency: COE

Property Number: 31201210006

Status: Underutilized

Comments: Off-site removal only; 312 sq. ft.; current use: Toilet; need major repairs—bldg. is deteriorating

2 Vault Toilets

Stockdale Park

Manhattan KS

Landholding Agency: COE

Property Number: 31201210007

Status: Underutilized

Comments: Off-site removal only; 80 sq. ft.; current use: Toilet; bldgs. are deteriorating—need major repairs

Minnesota

Border Patrol Station

1412 Hwy 11-17 W

Intern'l Falls MN 56649

Landholding Agency: GSA

Property Number: 54201210001

Status: Excess

GSA Number: 1-X-MN-0595-AA

Comments: 2,368 sq. ft.; current use: Office, garage, cold storage; possible asbestos and lead base paint

Unsuitable Properties

Building

Arkansas

Armer House

Buffalo Nat'l River

Compton AR 72624

Landholding Agency: Interior

Property Number: 61201210003

Status: Excess

Comments: Beyond repair; does not meet criteria or potential for habitation or other use for homeless persons

Reasons: Extensive deterioration

California

Facility 02747

Naval Air Weapons Station

China Lake CA 93555

Landholding Agency: Navy

Property Number: 77201140022

Status: Excess

Reasons: Secured Area

Florida

Stanfield Property

Daytona Beach Comm. College

New Smyrna Beach FL 32169

Landholding Agency: Interior

Property Number: 61201210001

Status: Unutilized

Comments: Beyond repair; does not meet criteria or potential for habitation or other use for homeless persons

Reasons: Extensive deterioration

Missouri

Water Quality Bldg.

Pomme de Terre Lake Project

Hermitage MO 65668

Landholding Agency: COE

Property Number: 31201210008

Status: Underutilized

Comments: Deteriorated beyond repair; therefore, does not meet criteria or potential for habitation and/or other use for homeless persons

Reasons: Extensive deterioration

New Mexico

15 Bldgs.

Los Alamos Nat'l Lab

Los Alamos NM 87545

Landholding Agency: Energy

Property Number: 41201210001

Status: Excess

Directions: 03-0097, 03-0251, 03-0373, 03-0460, 03-0461, 03-0462 03-0467, 03-0472, 03-0473, 03-1578, 03-1664, 03-1701, 03-1789,03-2260, 16-0363

Reasons: Secured Area

North Carolina

Nat'l Park Service

Superintendent's Quarters

Kills Devil Hill NC 27948

Landholding Agency: Interior

Property Number: 61201210002

Status: Unutilized

Comments: Beyond repair; does not meet criteria or potential for habitation or other use for homeless persons

Reasons: Extensive deterioration

Land

Colorado

Pine River Project

Bureau of Reclamation

Bayfield CO

Landholding Agency: Interior

Property Number: 61201140008

Status: Excess

Comments: Landlocked

Reasons: Not accessible by road

Illinois

FAA Middle Marker Site

467 37th Ave

St. Charles IL 60174

Landholding Agency: GSA

Property Number: 54201140008

Status: Excess

GSA Number: 1-U-IL-798

Comments: 500 gallon above ground tank for diesel storage is 1,356 ft. from the FAA Middle Marker Site

Reasons: Within 2000 ft. of flammable or explosive material

Washington

Shelton-Bangor Bremerton Rail

1011 Tautog Circle

Silverdale WA 98315

Landholding Agency: Navy

Property Number: 77201210001

Status: Excess

Comments: Within 200 to 300 ft. from commercial facilities that handle explosive materials

Reasons: Within 2000 ft. of flammable or explosive material

[FR Doc. 2012-2065 Filed 2-2-12; 8:45 am]

BILLING CODE 4210-67-P